DEPARTMENT OF DEFENSE

Department of the Navy

Meeting of the Ocean Research Advisory Panel

AGENCY: Department of the Navy, DOD.

ACTION: Notice of open meetings.

SUMMARY: The Ocean Research Advisory Panel (ORAP) will meet to discuss National Oceanographic Partnership Program (NOPP) activities. All sessions of the meetings will remain open to the public.

DATES: The meetings will be held on Thursday, October 27, 2005, from 8:30 a.m. to 5 p.m. and Friday, October 28, 2005, from 8:30 a.m. to 3 p.m. In order to maintain the meetings time schedules, members of the public will be limited in their time to speak to the Panel. Members of the public should submit their comments one week in advance of the meetings to the meeting Point of Contact.

ADDRESSES: The meetings will be held at the Consortium for Oceanographic Research and Education, 1201 New York Ave., NW., Suite 420, Washington, DC 20005.

FOR FURTHER INFORMATION CONTACT: Dr. Melbourne G. Briscoe, Office of Naval Research, 875 North Randolph Street Suite 1425, Arlington, VA 22203-1995, telephone 703-696-4120.

SUPPLEMENTARY INFORMATION: This notice of open meetings is provided in accordance with the Federal Advisory Committee Act (5 U.S.C. App. 2). The purpose of the meetings is to discuss NOPP activities. The meetings will include discussions on ocean observations, current and future NOPP activities, and other current issues in the ocean sciences community.

Dated: September 26, 2005.
I.C. Le Moyne Jr.,
Lieutenant, Judge Advocate General's Corps, U.S. Navy, Alternate Federal Register Liaison Officer.

[FR Doc. 05-20103 Filed 10-5-05; 8:45 am]

BILLING CODE 3810-FF-P